DEPARTMENT OF THE INTERIOR

Fish and Wildlife Service

Notice of Availability of an Amendment to the Draft Recovery Plan for Gabbro Soil Plants of the Central Sierra Nevada Foothills for Review and Comment

AGENCY: U.S. Fish and Wildlife Service, Interior.

ACTION: Notice of document availability.

SUMMARY: The U.S. Fish and Wildlife Service (Service) announces the availability, for public review, of an Amendment to the Draft Recovery Plan for Gabbro Soil Plants of the Central Sierra Nevada Foothills. This amendment to the draft recovery plan covers four plants listed as endangered, Calystegia stebbinsii (Stebbins' morning-glory), Ceanothus roderickii (Pine Hill ceanothus), Fremontodendron californicum ssp. decumbens (Pine Hill flannelbush), and Galium californicum ssp. sierrae (El Dorado bedstraw); one plant listed as threatened, Senecio layneae (Layne's butterweed); and one plant species of concern, Wyethia reticulata (El Dorado mule-ears). The amendment includes a revision of and correction to the preserve recommendation maps found in the draft plan. It also includes changes to the text in the recovery, stepdown narrative, and implementation chapters necessitated by changes in the preserve maps.

DATES: Comments on the amendment to the draft recovery plan must be received on or before January 29, 2001.

ADDRESSES: Copies of the amendment to the draft recovery plan are available for inspection, by appointment, during normal business hours at the following location: U.S. Fish and Wildlife Service, Sacramento Fish and Wildlife Office, 2800 Cottage Way, Room W-2605, Sacramento, California (telephone (916) 414-6600). Requests for copies of the amendment to the draft recovery plan and written comments and materials regarding this amendment should be addressed to Wayne S. White, Field Supervisor, Ecological Services, at the above address.

FOR FURTHER INFORMATION CONTACT: Diane Elam or Kirsten Tarp, Fish and Wildlife Biologists, at the above address.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting listed species, and estimate time and cost for implementing the recovery measures needed.

The Endangered Species Act of 1973, as amended (16 U.S.C. 1531 et seq.) (Act), requires the development of recovery plans for listed species unless such a plan would not promote the conservation of a particular species. Section 4(f) of the Act as amended in 1988 requires that public notice and an opportunity for public review and comment be provided during recovery plan development. The Service will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individualized responses to comments will not be provided.

The six species of plants covered in both the draft recovery plan and the amendment to the draft plan are primarily restricted to gabbro soils habitat in the central Sierra Nevada foothills of California. Conversion of habitat to urban uses has extirpated the listed species and species of concern from a significant portion of their historic ranges. The remaining natural communities are highly fragmented, and many sites are vulnerable to extirpation from edge effects, impaired dispersal, or changes in fire regime.

The objectives of this amendment are to: (1) Make available to the public a revised preserve recommendation for the Pine Hill formation of western El Dorado County and (2) correct mistakes in mapping of preserve areas that appeared in the draft plan. The amendment includes the revised preserve recommendation maps and portions of the recovery chapter, stepdown narrative, and implementation schedule that were changed to correspond to the revised recommendation. In this amendment we have not addressed the public comments that were previously submitted on the draft plan. Those comments will, however, be addressed in the final recovery plan.

Public Comments Solicited

The Service solicits written comments on the amendment described above. All comments received by the date specified above will be considered prior to approval of the final recovery plan. Comments that were submitted to us during the March 8 to July 7, 1999, public comment period on the draft plan do not need to be resubmitted. These comments, as well as comments received on the amendment, will be addressed in the final recovery plan.

Authority

The authority for this action is section 4(f) of the Endangered Species Act, 16 U.S.C. 1533(f).

Dated: November 21, 2000.
Elizabeth H. Stevens,
Acting Manager, California/Nevada Operations Office, Region 1, Fish and Wildlife Service.

[FR Doc. 00-30361 Filed 11-28-00; 8:45 am]

BILLING CODE 4310-55-P